ENVIRONMENTAL PROTECTION AGENCY

40 CFR Part 98

[EPA-HQ-OAR-2011-0028; FRL-9905-71-OAR]

RIN 2060-AR52

2013 Revisions to the Greenhouse Gas Reporting Rule and Final Confidentiality Determinations for New or Substantially Revised Data Elements

AGENCY: Environmental Protection Agency (EPA).

ACTION: Final rule; correction.

SUMMARY: The Environmental Protection Agency (EPA) published a final rule in the Federal Register on November 29, 2013. The final rule amended the Greenhouse Gas Reporting Rule to implement technical corrections, clarifying revisions, and other amendments to improve the quality and consistency of the data collected by the EPA, including amendments to the Reporting Rule's table of global warming potentials to revise the values for certain greenhouse gases. An error in the regulatory text is identified and corrected in this action.

DATES: This final rule is effective on January 22, 2014.

FOR FURTHER INFORMATION CONTACT: Carole Cook, Climate Change Division, Office of Atmospheric Programs (MC-6207J), Environmental Protection Agency, 1200 Pennsylvania Ave. NW., Washington, DC 20460; telephone number: (202) 343-9263; fax number: (202) 343-2342; email address: GHGReportingRule@epa.gov.

SUPPLEMENTARY INFORMATION: EPA published a final rule document on November 29, 2013 (78 FR 71904) that amended the Greenhouse Gas Reporting Rule to implement technical corrections, clarifying revisions, and other amendments. One of the instruction headings was printed incorrectly in the Federal Register. Therefore, this instruction heading is corrected in this notice.

Correction

In the final rule published in the Federal Register on November 29, 2013 (78 FR 71904), on page 71977, third column, instruction 102 is corrected to read: “102. Table NN-2 to subpart NN is revised to read as follows:”.

List of Subjects 40 CFR Part 98

Environmental protection, Administrative practice and procedure, Greenhouse gases, Reporting and recordkeeping requirements.

Dated: January 14, 2014.
Janet G. McCabe,
Acting Assistant Administrator, Office of Air and Radiation.

[FR Doc. 2014-01214 Filed 1-21-14; 8:45 am]

BILLING CODE 6560-50-P